DEPARTMENT OF COMMERCE

National Oceanic and Atmospheric Administration

50 CFR Part 660

[Docket No. 051213334-5334-01; I.D. 112905C]

RIN 0648-AT98

Magnuson-Stevens Act Provisions; Fisheries Off West Coast States and in the Western Pacific; Pacific Coast Groundfish Fishery; Correction

Correction

In proposed rule document 06-843, beginning on page 4886 in the issue of Monday, January 30, 2006, make the following corrections:

§ 660.306 [Corrected]

1. On page 4886, in the third column, under the heading Correction, after instruction 2, the section heading should read as follows:

§660.306 Prohibitions.

§ 660.395 [Corrected]

2. On page 4888, in the second column, in §660.395(a), in the fifth line from the top, in entry (90), “34°38.54′ N. lat.” should read “32°38.54′ N. lat”.

3. On page 4889, in the second column, in §660.395(kk), in the eighth line from the bottom, in entry (17), “122°58.25′ W. long” should read “121°58.25′ W. long”.

4. On the same page, in the third column, in §660.395(nn), in entry (17), “124°34.15′ W. long” should read “124°24.15′ W. long”.

[FR Doc. C6-843 Filed 2-6-06; 8:45 am]

BILLING CODE 1505-01-D